DEPARTMENT OF THE INTERIOR

Fish and Wildlife Service

Endangered and Threatened Species Permit Applications

ACTION: Notice of Receipt of Applications.

SUMMARY: The following applicants have applied for a permit to conduct certain activities with endangered species. This notice is provided pursuant to section 10(a) of the Endangered Species Act of 1973, as amended (16 U.S.C. 1531, et seq.).

Permit No. TE-30115-0

Applicant: Bureau of Land Management (BLM)-Safford Field Office, Safford, Arizona; Applicant requests authorization for recovery purposes to conduct presence/absence surveys for the southwestern willow flycatcher (Empidonax traillii extimus), cactus ferruginous pygmy-owl (Glaucidium brasilianum cactorum), Mexican spotted owl (Strix occidentalis lucida), desert pupfish (Cyprinodon macularius), razorback sucker (Xyrauchen texanus), Gila topminnow (Poeciliopsis occidentalis), and lesser long-nosed bat (Leptonycteris curasoae yerbabuenae) on lands administered by the BLM-Safford Field Office in Arizona.

Permit No. TE-22582

Applicant: Marilyn Murov, Flagstaff, Arizona; Applicant requests authorization for recovery purposes to conduct presence/absence surveys for the humpback chub (Gila cypha) within Arizona.

Permit No. TE-30902

Applicant: The Environmental Company, Inc., Santa Barbara, California; Applicant requests authorization to conduct presence/absence surveys for the northern aplomado falcon (Falco femoralis septentrionalis) in Arizona and New Mexico for the U.S. Air Force.

Permit No. TE-20819

Applicant: Turner Collie and Braden Inc.; Applicant requests authorization for recovery purposes to conduct presence/absence surveys and other recovery activities for the Comal Springs riffle beetle (Heterelmis comalensis), fountain darter (Etheostoma fonticola), and San Marcos salamander (Eurycea nana) in Hays and Comal Counties, Texas.

DATES: Written comments on these permit applications must be received on or before September 5, 2000.

ADDRESSES: Written data or comments should be submitted to the Legal Instruments Examiner, Division of Endangered Species/Permits, Ecological Services, P.O. Box 1306, Albuquerque, New Mexico 87103. Please refer to the respective permit number for each application when submitting comments. All comments received, including names and addresses, will become part of the official administrative record and may be made available to the public.

FOR FURTHER INFORMATION CONTACT: The U.S. Fish and Wildlife Service, Ecological Services, Division of Endangered Species/Permits, P.O. Box 1306, Albuquerque, New Mexico 87103. Please refer to the respective permit number for each application when requesting copies of documents. Documents and other information submitted with these applications are available for review, subject to the requirements of the Privacy Act and Freedom of Information Act, by any party who submits a written request for a copy of such documents within 30 days of the date of publication of this notice, to the address above.

Susan MacMullin,
Assistant Regional Director, Ecological Services, Region 2, Albuquerque, New Mexico.

[FR Doc. 00-19757 Filed 8-3-00; 8:45 am]

BILLING CODE 4310-55-P